DEPARTMENT OF ENERGY

Notice of Orders Issued Under Section 3 of The Natural Gas Act During January 2018

| FE Docket Nos.
PUGET SOUND ENERGY, INC | 17-149-NG; 17-24-NG
SIERRA PACIFIC POWER COMPANY d/b/a NV ENERGY | 17-158-NG
COLONIAL ENERGY, INC | 17-162-NG
CONSOLIDATED EDISON ENERGY, INC | 17-157-NG
HOUSTON PIPE LINE COMPANY LP | 17-163-NG
REV LNG LLC | 17-155-LNG
SABINE PASS LIQUEFACTION, LLC | 17-161-LNG
PASO NORTE GAS EXPORT, LLC | 17-160-NG
EQT ENERGY, LLC | 17-156-NG
UNIPER TRADING CANADA LTD | 17-165-NG
BG LNG SERVICES, LLC | 18-04-LNG
PEMCORP, S.A.P.I. DE C.V | 18-02-NG
ENSTOR ENERGY SERVICES, LLC | 18-01-NG
ENSTOR ENERGY SERVICES, LLC | 18-05-NG
IRVING OIL COMMERICAL GP | 18-09-NG
GOLDEN PASS LNG TERMINAL LLC | 18-06-LNG
MACQUARIE ENERGY LLC | 17-152-LNG
PHILLIPS 66 COMPANY | 18-07-NG
CITADEL ENERGY MARKETING LLC | 18-08-NG; 17-45-NG
SABINE PASS LIQUEFACTION, LLC | 17-161-LNG

AGENCY: Office of Fossil Energy, Department of Energy.

ACTION: Notice of orders.

SUMMARY: The Office of Fossil Energy (FE) of the Department of Energy gives notice that during January 2018, it issued orders granting or vacating authority to import and export natural gas, and to import and export liquefied natural gas (LNG). These orders are summarized in the attached appendix and may be found on the FE website at http://energy.gov/fe/listing-doefe-authorizationsorders-issued-2018.

They are also available for inspection and copying in the U.S. Department of Energy (FE-34), Division of Natural Gas Regulation, Office of Regulation and International Engagement, Office of Fossil Energy, Docket Room 3E-033, Forrestal Building, 1000 Independence Avenue SW, Washington, DC 20585, (202) 586-9478. The Docket Room is open between the hours of 8:00 a.m. and 4:30 p.m., Monday through Friday, except Federal holidays.

Issued in Washington, DC, on February 28, 2018.
Robert J. Smith,
Deputy Assistant Secretary for Oil and Natural Gas (Acting).

Appendix

DOE/FE Orders Granting Import/Export Authorizations
4131; 4002-A | 01/04/18 | 17-148-NG; 17-24-NG | Puget Sound Energy, Inc | Order 4131 and Order 4002-A granting blanket authority to import/export natural gas from/to Canada, and vacating prior authorization.
4132 | 01/04/18 | 17-146-NG | Sierra Pacific Power Company d/b/a NV Energy | Order 4132 granting blanket authority to import natural gas from Canada.
4133 | 01/04/18 | 17-150-NG | Colonial Energy, Inc | Order 4133 granting blanket authority to import/export natural gas from/to Canada/Mexico.
4134 | 01/04/18 | 17-147-NG | Consolidated Edison Energy, Inc | Order 4134 granting blanket authority to import/export natural gas from/to Canada.
4135 | 01/05/18 | 17-151-LNG | Houston Pipe Line Company LP | Order 4135 granting blanket authority to import/export natural gas from/to Mexico.
4136 | 01/05/18 | 17-42-NG | Rev LNG LLC | Order 4136 granting blanket authority to import/export LNG from/to Canada by truck.
4137 | 01/10/18 | 17-161-LNG | Sabine Pass Liquefaction, LLC | Order 4137 granting blanket authority to export LNG by vessel from the Sabine Pass LNG Terminal located in Cameron Parish, Louisiana, to Free Trade Agreement Nations.
4138 | 01/11/18 | 17-160-NG | Paso Norte Gas Export, LLC | Order 4138 granting blanket authority to export natural gas to Mexico.
4139 | 01/11/18 | 17-156-NG | EQT Energy, LLC | Order 4139 granting blanket authority to import/export natural gas from/to Canada.
4140 | 01/11/18 | 17-165-NG | Uniper Trading Canada Ltd | Order 4140 granting blanket authority to import/export natural gas from/to Canada.
4141 | 01/11/18 | 18-04-LNG | BG LNG Services, LLC | Order 4141 granting blanket authority to import LNG from various international sources by vessel.
4142 | 01/17/18 | 18-02-NG | Pemcorp, S.A.P.I. de C.V | Order 4142 granting blanket authority to export natural gas to Mexico.
4143 | 01/17/18 | 18-01-NG | Enstor Energy Services, LLC | Order 4143 granting blanket authority to import/export natural gas from/to Canada.
4144 | 01/26/18 | 18-05-NG | Enstor Energy Services, LLC | Order 4144 granting blanket authority to import/export natural gas from/to Mexico.
4145 | 01/26/18 | 18-09-NG | Irving Oil Commercial GP | Order 4145 granting blanket authority to export natural gas to Canada.
4146 | 01/26/18 | 18-06-LNG | Golden Pass LNG Terminal LLC | Order 4146 granting blanket authority to import LNG from various international sources by vessel.
4147 | 01/26/18 | 17-152-LNG | Macquarie Energy LLC | Order 4147 granting blanket authority to import/export natural gas from/to Canada/Mexico, to import/export LNG from/to Canada/Mexico by truck, and to import LNG from various international sources by vessel.
4148 | 01/26/18 | 18-07-NG | Phillips 66 Company | Order 4148 granting blanket authority to export natural gas to Canada.
4149 | 01/26/18 | 18-08-NG; 17-45-NG | Citadel Energy Marketing LLC | Order 4149 granting blanket authority to import/export natural gas from/to Canada/Mexico, and vacating prior authorization.
4150 | 01/26/18 | 17-161-NG | Sabine Pass Liquefaction, LLC | Order 4150 granting blanket authority to export LNG by vessel from the Sabine Pass LNG Terminal in Cameron Parish, Louisiana, to Non-free Trade Agreement Nations.

[FR Doc. 2018-04432 Filed 3-2-18; 8:45 am]

BILLING CODE 6450-01-P